DEPARTMENT OF HOMELAND SECURITY

Coast Guard

[Docket No. USCG-2019-0915]

National Navigation Safety Advisory Committee; Initial Solicitation for Members

AGENCY: Coast Guard, Department of Homeland Security

ACTION: Request for applications.

SUMMARY: The Coast Guard is requesting applications from persons interested in membership on National Navigation Safety Advisory Committee. This recently established Committee will advise the Secretary of the Department of Homeland Security on matters relating to maritime collisions, rammings, and groundings; Inland Rules of the Road; International Rules of the Road; navigation regulations and equipment, routing measures, marine information, and aids to navigation systems. Please read this notice for a description of the Committee positions we are seeking to fill.

DATES: Your completed applications should reach the Coast Guard on or before April 13, 2020.

ADDRESSES: Applicants should send a cover letter expressing interest in an appointment to the National Navigation Safety Advisory Committee and a resume detailing the applicant's experience. We will not accept biography. Applications should be submitted via one of the following methods:

• By Email: George.H.Detweiler@uscg.mil (preferred), Subject line: The National Navigation Safety Advisory Committee;

• By Fax: 202-372-1991 ATTN: Mr. George Detweiler, Alternate Designated Federal Officer; or

• By Mail: Commandant (CG-NAV-2)/NAVSAC Attn: Mr. George Detweiler, Alternate Designated Federal Officer, Commandant (CG-NAV-2), U.S. Coast Guard 2703 Martin Luther King Avenue SE, STOP 7418, Washington, DC 20593-7418.

FOR FURTHER INFORMATION CONTACT: Mr. George Detweiler, Alternate Designated Federal Officer of the National Navigation Safety Advisory Committee; 202-372-1566; or email at George.H.Detweiler@uscg.mil.

SUPPLEMENTARY INFORMATION: The National Navigation Safety Advisory Committee is a federal advisory committee. It will operate under the provisions of the Federal Advisory Committee Act, 5 United States Code, Appendix. and 46 U.S.C. 15107 and 15109. The Committee was established on December 4, 2018, by the Frank LoBiondo Coast Guard Authorization Act of 2018, which added section 15107, National Navigation Safety Advisory Committee, to Title 46 of the U.S. Code (46 U.S.C. 15107). The purpose of the Committee is to advise the Secretary of Homeland Security on matters relating to maritime collisions, rammings, and groundings; Inland Rules of the Road; International Rules of the Road; navigation regulations and equipment, routing measures, marine information, and aids to navigation systems.

In accordance with 46 U.S.C. 15109(a), the Committee is required to hold meetings at least once a year. We expect the Committee to meet at least twice a year, but it may meet even more frequently. All members will serve at their own expense and receive no salary or other compensation from the Federal Government. The only compensation the members may receive is for travel expenses, including per diem in lieu of subsistence, and/or actual and reasonable expenses incurred in the performance of their direct duties at the Committee.

Under 46 U.S.C. 15109(f)(6), membership terms expire on December 31 of the third full year after the effective date of your appointment. The Secretary may require an individual to have passed an appropriate security background examination before appointment to the Committee, 46 U.S.C. 15109(f)(4). In this initial solicitation for Committee members, we will consider applications for 21 positions in the following membership categories:

a. Commercial vessel owners or operators

b. Professional mariners

c. Recreational boaters

d. The recreational boating industry

e. State agencies responsible for vessel or port safety

f. The Maritime Law Association

Each member will be appointed to represent the viewpoints and interests of one of the groups or organizations, and at least one member will be appointed to represent each membership category. All members serve as representatives and are not Special Government Employees as defined in 18, U.S.C., Section 202(a). Each member of the Committee must have particular expertise, knowledge, and experience in matters relating to the function of the Committee which is to advise the Secretary of Homeland Security on matters relating to maritime collisions, rammings, and groundings; Inland Rules of the Road; International Rules of the Road; navigation regulations and equipment, routing measures, marine information, diving safety, and aids to navigation systems. The Secretary may require an individual to have passed an appropriate security background examination before appointment to the Committee, 46 U.S.C. 15109(f)(4).

Registered lobbyists are not eligible to serve on federal advisory committees in an individual capacity. See “Revised Guidance on Appointment of Lobbyists to Federal Advisory Committees, Boards and Commissions” (79 FR 47482, August 13, 2014). Registered lobbyists are “lobbyists,” as defined in 2 U.S.C. 1602, who are required by 2 U.S.C. 1603 to register with the Secretary of the Senate and the Clerk of the House of Representatives.

The Department of Homeland Security does not discriminate in selection of Committee members on the basis of race, color, religion, sex, national origin, political affiliation, sexual orientation, gender identity, marital status, disabilities and genetic information, age, membership in an employee organization, or any other non-merit factor. The Department of Homeland Security strives to achieve a widely diverse candidate pool for all of its recruitment actions.

If you are interested in applying to become a member of the Committee, send your cover letter and resume to Mr. George Detweiler, Alternate Designated Federal Officer of the National Navigation Safety Advisory Committee, via one of the transmittal methods in the ADDRESSES section by the deadline in the DATES section of this notice. If you send your application to us via email, we will send you an email confirming receipt of your application.

Dated: January 31, 2020.
Michael D. Emerson,
Director, Marine Transportation Systems.

[FR Doc. 2020-02761 Filed 2-11-20; 8:45 am]

BILLING CODE 9110-04-P